DEPARTMENT OF COMMERCE

International Trade Administration

(A-485-803)

Certain Cut-to-Length Carbon Steel Plate from Romania: Notice of Extension of Preliminary Results for 2003-2004 Antidumping Duty Administrative Review

AGENCY: Import Administration, International Trade Administration, Department of Commerce.

EFFECTIVE DATE: April 15, 2005.

FOR FURTHER INFORMATION CONTACT: Patrick Edwards, AD/CVD Operations, Office 7, Import Administration, International Trade Administration, U.S. Department of Commerce, 14th Street and Constitution Avenue, NW, Washington, DC 20230, at (202) 482-8029.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Background

On September 22, 2004, the Department published a notice of initiation of administrative review of the antidumping duty order on certain cut-to-length carbon steel plate from Romania, covering the period August 1, 2003, through July 31, 2004. See Initiation of Antidumping and Countervailing Duty Administrative Reviews and Requests for Revocation in Part, 69 FR 56745 (September 22, 2004). The preliminary results for this review are currently due no later than May 3, 2005.

Extension of Time Limits for Preliminary Results

On April 4, 2005, the Department initiated a sales-below-cost investigation in this review. See Memorandum to Richard Weible, Office Director, through Abdelali Elouaradia, Program Manager, from Patrick Edwards and John Drury and Ernest Gziryan regarding IPSCO Steel Inc.'s Allegation of Sales Below the Cost of Production for Ispat Sidex, S.A. On April 4, 2005, the Department also issued Section D of the Antidumping Questionnaire to Sidex. The current deadline for the preliminary results in this review is May 3, 2005. The Department requires additional time to review and analyze the Section D response when submitted, issue supplemental cost questionnaires, if necessary, and possibly verify the sales and cost information submitted by Ispat Sidex S.A. Hence, it is not practicable to complete this review within the originally anticipated time limit.

Section 751(a)(3)(A) of the Act and Section 351.213(h)(2) of the Department's regulations allow the Department to extend the deadline for the preliminary results to a maximum of 365 days from the last day of the anniversary month of the order. For the reasons noted above, the Department is extending the time limit for completion of the preliminary results to no later than August 31, 2005, in accordance with section 751(a)(3)(A) of the Act. We intend to issue the final results no later than 120 days after publication of the notice of the preliminary results.

We are issuing and publishing this notice in accordance with sections 751(a)(3)(A) and 777(i)(1) of the Act.

Dated: April 11, 2005.
Barbara E. Tillman,
Acting Deputy Assistant Secretary for Import Administration.

[FR Doc. E5-1787 Filed 4-15-05; 8:45 am]

BILLING CODE: 3510-DS-S